DEPARTMENT OF THE INTERIOR

Bureau of Ocean Energy Management

[Docket No. BOEM-2015-0001]

Notice of Availability Environmental Assessment for Commercial Wind Lease Issuance and Site Assessment Activities on the Atlantic Outer Continental Shelf Offshore North Carolina; MMAA104000

AGENCY: Bureau of Ocean Energy Management (BOEM), Interior.

ACTION: Notice of Availability of an Environmental Assessment.

SUMMARY: BOEM is announcing the availability of an Environmental Assessment (EA) for commercial wind lease issuance, site characterization activities (geological, geotechnical/archeological and biological surveys) and site assessment activities (including the installation and operation of a meteorological tower and/or buoys) on the Atlantic Outer Continental Shelf offshore North Carolina. The EA considers the potential impacts of the proposed action and analyzes reasonable alternatives to the proposed action. This Notice of Availability (NOA) also serves to announce the beginning of the public comment period on the EA. The EA and associated information are available on BOEM's Web site at http://www.boem.gov/State-Activities-North-Carolina/.

Authority: This NOA for an EA is in compliance with the National Environmental Policy Act (NEPA) of 1969, as amended (42 U.S.C. 4231 et seq.), and is published pursuant to 43 CFR 46.305.

DATES: Comments should be submitted no later than February 23, 2015. BOEM will conduct public information meetings to explain the proposed activities analyzed in the EA and provide additional opportunity for public comment on the EA. The meetings will be held on the following dates:

• Monday, February 9, 2015, in the Northern Outer Banks, NC

• Wednesday, February 11, 2015, in Wilmington, NC

• Thursday, February 12, 2015, in Carolina Shores or Sunset Beach, NC

Additional information on specific times and venues will be posted online at: http://www.boem.gov/State-Activities-North-Carolina/.

FOR FURTHER INFORMATION CONTACT: Michelle Morin, BOEM Office of Renewable Energy Programs, 381 Elden Street, HM 1328, Herndon, Virginia 20170-4817, (703) 787-1340 or michelle.morin@boem.gov.

SUPPLEMENTARY INFORMATION: Federal, state, tribal, and local governments and/or agencies and the public may submit written comments on this EA through the following methods:

1. Federal eRulemaking Portal: http://www.regulations.gov. In the field entitled “Enter Keyword or ID,” enter BOEM-2015-0001, and then click “search.” Follow the instructions to submit public comments and view supporting and related materials available for this notice;

2. In written form, delivered by hand or by mail, enclosed in an envelope labeled “Commercial Wind Lease Issuance and Site Assessment Activities on the Atlantic Outer Continental Shelf Offshore North Carolina Environmental Assessment” and addressed to Program Manager, Office of Renewable Energy, Bureau of Ocean Energy Management, 381 Elden Street, HM 1328, Herndon, Virginia 20170- 4817.

Before including your address, phone number, email address or other personal identifying information in your comment, you should be aware that your entire comment, including your personal identifying information, may be made publicly available at any time. While you can ask us in your comments to withhold your personal identifying information from public review, we cannot guarantee that we will be able to do so.

Dated: December 31, 2014.
Walter D. Cruickshank,
Acting Director, Bureau of Ocean Energy Management.

[FR Doc. 2015-01101 Filed 1-22-15; 8:45 am]

BILLING CODE 4310-MR-P